DEPARTMENT OF HEALTH AND HUMAN SERVICES

Administration for Children and Families

Proposed Information Collection Activity; Tribal Maternal, Infant, and Early Childhood Home Visiting Program Implementation Plan Guidance for Development and Implementation and Implementation and Expansion Grantees

AGENCY: Office of Early Childhood Development, Administration for Children and Families, U.S. Department of Health and Human Services.

ACTION: Request for public comments.

SUMMARY: The Administration for Children and Families (ACF), Office of Early Childhood Development (ECD) is requesting Office of Management and Budget (OMB) approval of Tribal Maternal, Infant, and Early Childhood Home Visiting (MIECHV) Program Implementation Plan Guidance for Tribal Home Visiting Development and Implementation Grants (DIG) and Tribal Home Visiting Implementation and Expansion Grants (IEG).

DATES: Comments due within 60 days of publication. In compliance with the requirements of the Paperwork Reduction Act (PRA) of 1995, ACF is soliciting public comment on the specific aspects of the information collection described above.

ADDRESSES: You can obtain copies of the proposed collection of information and submit comments by emailing infocollection@acf.hhs.gov. Identify all requests by the title of the information collection.

SUPPLEMENTARY INFORMATION:

Description: Section 511(e)(8)(A) of title V of the Social Security Act requires that grantees under the Tribal MIECHV program, in the first year of their grants, submit an implementation plan on how they will meet the requirements of the program. Section 511(h)(2)(A) further states that the requirements for the MIECHV grants to tribes, tribal organizations, and urban Indian organizations are to be consistent, to the greatest extent practicable, with the requirements for grantees under the MIECHV program for states and jurisdictions.

The ACF Office of Early Childhood Development, in collaboration with the Health Resources and Services Administration, Maternal and Child Health Bureau awarded grants for the Tribal MIECHV Program to support cooperative agreements to conduct community needs assessments; plan for and implement high-quality, culturally relevant, evidence-based home visiting programs in at-risk tribal communities; establish, measure, and report on progress toward meeting performance measures in six legislatively mandated benchmark areas; and conduct rigorous evaluation activities to build the knowledge base on home visiting among Native populations.

During the first grant year, Tribal Home Visiting grantees must comply with the requirement to submit an implementation plan that should feature planned activities to be carried out under the program in years 2-5 of their cooperative agreements. To assist grantees with meeting these requirements, ACF created guidance for grantees to use when writing their plans. The DIG and IEG guidance specify that grantees must provide a plan to address the following areas:

• Community Needs and Readiness Assessment

• Program Design

• Program Blueprint

• Plan for Data Collection, Management and Performance Measurement

• Fidelity Monitoring and Quality Assurance

Respondents: Tribal Home Visiting Managers (information collection does not include direct interaction with individuals or families that receive the services).

Total Burden Estimates
Instrument | Total number of respondents | Number of responses per respondent | Average burden hours per response | Total burden hours
Implementation Plan Guidance for Development and Implementation Grantees | 13 | 1 | 1,000 | 13,000
Implementation Plan Guidance for Implementation and Expansion Grantees | 35 | 1 | 1,000 | 35,000
Estimated Total Annual Burden Hours: |  |  |  | 48,000

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title V of the Social Security Act, sections 511(e)(8)(A) and 511(h)(2)(A).

John M. Sweet Jr,
ACF/OPRE Certifying Officer.

[FR Doc. 2023-02543 Filed 2-6-23; 8:45 am]

BILLING CODE 4184-43-P